SUSQUEHANNA RIVER BASIN COMMISSION

Public Hearing

AGENCY: Susquehanna River Basin Commission.

ACTION: Notice.

SUMMARY: The Susquehanna River Basin Commission will hold a public hearing on May 10, 2018, in Harrisburg, Pennsylvania. At this public hearing, the Commission will hear testimony on the projects listed in the Supplementary Information section of this notice. The Commission will also hear testimony on a proposed records retention policy, as well as proposals to amend its Regulatory Program Fee Schedule and the Comprehensive Plan for the Water Resources of the Susquehanna River Basin. Such projects and proposals are intended to be scheduled for Commission action at its next business meeting, tentatively scheduled for June 15, 2018, which will be noticed separately. The public should take note that this public hearing will be the only opportunity to offer oral comment to the Commission for the listed projects and proposals. The deadline for the submission of written comments is May 21, 2018.

DATES: The public hearing will convene on May 10, 2018, at 2:30 p.m. The public hearing will end at 5:00 p.m. or at the conclusion of public testimony, whichever is sooner. The deadline for the submission of written comments is May 21, 2018.

ADDRESSES: The public hearing will be conducted at the Pennsylvania State Capitol, Room 8E-B, East Wing, Commonwealth Avenue, Harrisburg, Pa.

FOR FURTHER INFORMATION CONTACT: Jason Oyler, General Counsel, telephone: (717) 238-0423, ext. 1312; fax: (717) 238-2436.

Information concerning the applications for these projects is available at the SRBC Water Application and Approval Viewer at http://mdw.srbc.net/waav. Additional supporting documents are available to inspect and copy in accordance with the Commission's Access to Records Policy at www.srbc.net/pubinfo/docs/2009-02_Access_to_Records_Policy_20140115.pdf.

SUPPLEMENTARY INFORMATION: The public hearing will cover a proposed records retention policy, as well as proposed amendments to the Commission's Regulatory Program Fee Schedule and the Comprehensive Plan for the Water Resources of the Susquehanna River Basin, as posted on the SRBC Public Participation Center web page at www.srbc.net/pubinfo/publicparticipation.htm. The public hearing will also cover the following projects:

Projects Scheduled for Action:

1. Project Sponsor and Facility: Brymac, Inc. dba Mountain View Country Club (Pond ¾), Harris Township, Centre County, Pa. Application for surface water withdrawal of up to 0.240 mgd (peak day).

2. Project Sponsor and Facility: Dillsburg Area Authority, Franklin Township, York County, Pa. Modification to increase groundwater withdrawal by an additional 0.099 mgd (30-day average), for a total groundwater withdrawal of up to 0.200 mgd (30-day average) from Well 3 (Docket No. 20081207).

3. Project Sponsor and Facility: Healthy Properties, Inc. (Sugar Creek), North Towanda Township, Bradford County, Pa. Application for renewal of surface water withdrawal of up to 0.999 mgd (peak day) (Docket No. 20140602).

4. Project Sponsor and Facility: LDG Innovation, LLC (Tioga River), Lawrenceville Borough, Tioga County, Pa. Application for renewal of surface water withdrawal of up to 0.750 mgd (peak day) (Docket No. 20140604).

5. Project Sponsor and Facility: Lycoming Engines, a Division of Avco Corporation, City of Williamsport, Lycoming County, Pa. Application for renewal of groundwater withdrawal of up to 1.440 mgd (30-day average) for groundwater remediation system (Docket No. 19880203).

6. Project Sponsor and Facility: Mountain Energy Services, Inc. (Tunkhannock Creek), Tunkhannock Township, Wyoming County, Pa. Application for renewal of surface water withdrawal of up to 1.498 mgd (peak day) (Docket No. 20140606).

7. Project Sponsor and Facility: Niagara H2O Company (Susquehanna River), Towanda Township, Bradford County, Pa. Application for surface water withdrawal of up to 1.500 mgd (peak day).

8. Project Sponsor and Facility: Northeast Marcellus Aqua Midstream I, LLC (Susquehanna River), Tunkhannock Township, Wyoming County, Pa. Application for surface water withdrawal of up to 5.000 mgd (peak day).

9. Project Sponsor and Facility: Pennsylvania General Energy Company, L.L.C. (Pine Creek), Watson Township, Lycoming County, Pa. Application for renewal of surface water withdrawal of up to 0.918 mgd (peak day) (Docket No. 20140609).

10. Project Sponsor and Facility: Pro-Environmental, LLC (Martins Creek), Lathrop Township, Susquehanna County, Pa. Application for renewal of surface water withdrawal of up to 0.999 mgd (peak day) (Docket No. 20140610).

11. Project Sponsor and Facility: Repsol Oil & Gas USA, LLC (Fall Brook), Troy Township, Bradford County, Pa. Application for renewal of surface water withdrawal of up to 0.176 mgd (peak day) (Docket No. 20140615).

12. Project Sponsor and Facility: Repsol Oil & Gas USA, LLC (Unnamed Tributary to North Branch Sugar Creek), Columbia Township, Bradford County, Pa. Application for renewal of surface water withdrawal of up to 0.926 mgd (peak day) (Docket No. 20140616).

13. Project Sponsor: SUEZ Water Pennsylvania Inc. Project Facility: Center Square Operation, Upper Allen Township, Cumberland County, Pa. Application for groundwater withdrawal of up to 0.107 mgd (30-day average) from Well 1.

14. Project Sponsor: SUEZ Water Pennsylvania Inc. Project Facility: Center Square Operation, Upper Allen Township, Cumberland County, Pa. Application for renewal of groundwater withdrawal of up to 0.379 mgd (30-day average) from Well 2 (Docket No. 19861104).

15. Project Sponsor and Facility: Sugar Hollow Water Services LLC (Bowman Creek), Eaton Township, Wyoming County, Pa. Application for renewal of surface water withdrawal of up to 0.249 mgd (peak day) (Docket No. 20140612).

16. Project Sponsor and Facility: Susquehanna Gas Field Services, LLC, Meshoppen Borough, Wyoming County, Pa. Application for renewal of groundwater withdrawal of up to 0.216 mgd (30-day average) from the Meshoppen Pizza Well (Docket No. 20140613).

17. Project Sponsor and Facility: Susquehanna Gas Field Services, LLC (Susquehanna River), Meshoppen Township, Wyoming County, Pa. Application for renewal of surface water withdrawal of up to 1.650 mgd (peak day) (Docket No. 20140614).

18. Project Sponsor and Facility: Togg Mountain LLC, Town of Fabius, Onondaga County, N.Y. Application for consumptive use of up to 0.485 mgd (peak day).

19. Project Sponsor and Facility: Togg Mountain LLC (West Branch of Tioughnioga Creek), Town of Fabius, Onondaga County, N.Y. Application for surface water withdrawal of up to 2.200 mgd (peak day).

20. Project Sponsor and Facility: Town of Vestal, Broome County, N.Y. Application for renewal of groundwater withdrawal of up to 1.440 mgd (30-day average) from Well 4-4 (Docket No. 19810508).

Opportunity To Appear and Comment:

Interested parties may appear at the hearing to offer comments to the Commission on any project or proposal listed above. The presiding officer reserves the right to limit oral statements in the interest of time and to otherwise control the course of the hearing. Guidelines for the public hearing will be posted on the Commission's website, www.srbc.net, prior to the hearing for review. The presiding officer reserves the right to modify or supplement such guidelines at the hearing. Written comments on any project or proposal listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before May 21, 2018, to be considered.

Authority: Pub. L. 91-575, 84 Stat. 1509 et seq., 18 CFR parts 806, 807, and 808.

Dated: April 6, 2018.
Stephanie L. Richardson,
Secretary to the Commission.

[FR Doc. 2018-07425 Filed 4-10-18; 8:45 am]

BILLING CODE 7040-01-P